DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on 301-443-1129.

The following request has been submitted to the OMB for review under the Paperwork Reduction Act of 1995:

Proposed Project: The Nursing Education Loan Repayment Program Application (OMB No. 0915-0140)—Revision

This is a request for revision of the Nursing Education Loan Repayment Program (NELRP) application and participant monitoring forms. The NELRP was originally authorized by 42 U.S.C. 297b(h) (section 836(h) of the Public Health Service Act) as amended by Public Law 100-607, November 4, 1988. The NELRP is currently authorized by 42 U.S.C. 297n (section 846 of the Public Health Service Act) as amended by Public Law 107-205, August 1, 2002.

Under the NELRP, registered nurses are offered the opportunity to enter into a contractual agreement with the Secretary to receive loan repayment for up to 85 percent of their qualifying educational loan balance as follows: 30 percent each year for the first 2 years and 25 percent for the third year. In exchange, the nurses agree to serve full-time as a registered nurse for 2 or 3 years at a health care facility with a critical shortage of nurses.

NELRP requires the following information:

1. Applicants must provide information on their nursing education, employment, and proposed service site;

2. Applicants must provide information on their outstanding nursing educational loans;

3. Applicants must provide banking information from their financial institution; and

4. Employers must provide information on the health care facility and on the employment status of applicants and participants.

Estimates of Annualized Hour Burden Are as Follows for Applicants
Form | Number of respondents | Responses per respondent | Total responses | Hours per response | Total burden hours
NELRP Application | 5,000 | 1 | 5,000 | 1.5 | 7,500
Loan Verification Form | 5,000 | 3 | 15,000 | 1 | 15,000
Applicant Employment Verification Form | 5,000 | 1 | 5,000 | .5 | 2,500
Payment Information Form | 5,000 | 1 | 5,000 | 1 | 5,000
Application Checklist | 5,000 | 1 | 5,000 | .5 | 2,500
Pre-Award Confirmation Checklist | 600 | 1 | 600 | .25 | 150
Total | 5,000 |  | 35,600 |  | 32,650

Estimates of Annualized Hour Burden Are as Follows for Participants
Participant semi-annual employment verification form | 1,300 | 2 | 2,600 | .5 | 1,300
Total | 1,300 | 2 | 2,600 | .5 | 1,300

Written comments and recommendations concerning the proposed information collection should be sent within 30 days of this notice to the desk officer for HRSA, either by e-mail to OIRA_submission@omb.eop.gov or by fax to 202-395-6974. Please direct all correspondence to the “attention of the desk officer for HRSA.”

Dated: October 17, 2007.
Alexandra Huttinger,
Acting Director, Division of Policy Review and Coordination.

[FR Doc. E7-20940 Filed 10-23-07; 8:45 am]

BILLING CODE 4165-15-P